DEPARTMENT OF STATE

[Public Notice 4290]

Bureau of Educational and Cultural Affairs Request for Grant Proposals: U.S./Ukraine Policy Dialog Exchange

SUMMARY: The Office of Citizen Exchanges of the Bureau of Educational and Cultural Affairs announces an open competition for the U.S./Ukraine Policy Dialog Exchange. Public and private non-profit organizations meeting the provisions described in Internal Revenue Code section 26 U.S.C. 501(c)(3) may submit proposals to support a program that will facilitate an on-going exchange of views among policymakers and other leading experts from both countries. The program will focus on issues that affect U.S./Ukrainian relations.

Program Information

Overview: The Bureau of Educational and Cultural Affairs (The Bureau) invites applicants to submit a proposal for a two-year project that will initiate and support dialog among policymakers and leading experts from both countries. The purpose of the program is to advance constructive dialog and enhance relationships among experts in the two countries by providing an on-going forum through which they can freely exchange ideas and discuss issues and concerns of mutual interest in the context of the bilateral relationship between the two nations. Of particular interest are key issues that impact Ukraine's democratic and market-oriented development and its eventual integration into the Euro-Atlantic community. Participants should be from a range of organizations and sectors such as business, media, research institutes, as well as government.

Guidelines: Applicants should propose four, one-week working sessions over the two-year grant period. Two should take place in the U.S. and two in Ukraine. They should not be held in the same country two times in a row, but alternate between the U.S. and Ukraine. Up to 30 participants may take part in each working session. Each country should be as equally represented as possible with no more than 15 in attendance from each country. During U.S.-based working sessions, participants will take part in roundtable discussions. Where appropriate, informative lecture-style sessions on U.S.-style think tanks, media outlets, advocacy organizations, and non-governmental organizations may be provided for Ukrainian participants, with an emphasis on the role of these institutions in U.S. civil society, their relationship with the U.S. federal government, and their influence on policy formation. Further, consultative visits to these institutions may also be provided. Ukraine-based working sessions will be composed of roundtable discussions and other exchange activities, as appropriate. The proposal should provide a draft schedule with agenda for each working session. For participant recruitment and selection, a detailed plan should be provided. The Public Affairs Section at the U.S. Embassy in Kiev and the program office at the Bureau reserve the right to approve or disapprove nominated participants. Grantees will be required to provide a list of proposed Ukrainian participants at least eight weeks in advance of travel to the U.S. In the proposal, applicants should describe mechanisms that will be developed to disseminate the findings and recommendations of the participants to a broad audience in the U.S. and Ukraine. Competitive proposals will include a vision for the continuation of this exchange when U.S. government funding is exhausted. Pending availability of funds, programs should begin in June 2003.

The Executive Summary and Narrative of the proposal should be no more than twenty pages in length, double-spaced, single-sided, and unbound. Lettered tabs should be used to divide proposal sections. Applicants should describe a comprehensive strategy for managing all logistical and substantive aspects of this program. Programs must comply with J-1 visa regulations. In the Solicitation Package, forms required by Federal regulations and Bureau policies are provided for applicants to complete. Please follow the guidelines; complete and return the necessary forms with the submission. Please refer to the Technical Format and Instructions page in the Proposal Submission Instructions (PSI) for guidance.

Involvement of the Public Affairs Section (PAS) in Kiev:Though project administration and implementation are the responsibility of the grantee, PAS at the U.S. Embassy in Kiev will provide significant project oversight. As soon as a grant is awarded, the grantee must contact PAS for guidance on moving forward with the project. In addition to evaluating project proposals (for the purpose of awarding the grant) and approving proposed Ukrainian participants, PAS must be consulted on the planning and implementation of both U.S.-based and in-country activities (including identification and selection of participants). PAS will also observe in-country activities, debrief participants, and work with the grantee to evaluate project impact.

Program Data Requirement: The grantee will be required to maintain specific data on program participants and activities in an electronically accessible database format that can be shared with PAS and the program office at the Bureau, as required. As a minimum, the data must include the following:

(1) Name, address, contact information and biographic sketch of all persons who travel internationally on funds provided by the grant.

(2) Itineraries of international and domestic travel of all participants, including dates, location, and contact information.

Bureau Acknowledgement: Applicants are required to acknowledge the Bureau of Educational and Cultural Affairs and the U.S. Department of State as the funder of the program in all published and broadcast materials, including public announcements and program schedules. Please note that this will be a formal requirement in all final grant awards.

Budget Guidelines

The Bureau anticipates awarding one grant not exceeding $231,000, to support program and administrative costs required to implement this program. Bureau grant guidelines state that organizations with less than four years of experience in conducting international exchange programs are limited to $60,000 in Bureau support. Therefore, organizations with less than four years of experience in conducting international exchanges would not be eligible to apply under this competition. Competitive proposals will provide maximum levels of cost-sharing and funding from private sources in support of this program. Applicants must submit a comprehensive budget for the entire program. There must be a summary budget as well as breakdowns reflecting both administrative and program budgets. Applicants may provide separate sub-budgets for each program component, phase, location, or activity to provide clarification. ECA funding may support the following costs:

(1) Travel Costs. International and domestic airfares (per the “Fly America Act”), transit costs, ground transportation costs, and visas for U.S. participants. (Ukrainian participants will be issued J-1 at no charge to the grantee organization.)

(2) Per Diem. For U.S.-and Ukraine-based programming, organizations should not exceed the published Federal per diem rates for individual U.S. cities.

(3) Interpreters. Salary costs for local interpreters in Ukraine should be included in the budget. Bureau grants do not pay for foreign interpreters to accompany delegations from their home country. U.S. Department of State Interpreters should be used for U.S.-based working sessions. Applicants should budget $400 per interpreters'r/t transportation from their home base to the program site, for reimbursements for taxi fares, plus any other transportation expenses during the program. Interpreters' per diem should exceed the maximum allowable USG rate. Salary expenses are covered centrally and should not be part of an applicant's proposed budget.

(4) Book and cultural allowance. Foreign participants are entitled to a one-time cultural allowance of $150 per person, plus a book allowance of $50. Interpreters should be reimbursed up to $150 for expenses when they escort participants to cultural events. U.S. program staff, trainers or participants are not eligible to receive these benefits.

(5) Consultants. Consultants may be used to provide specialized expertise or to make presentations. Daily honoraria cannot exceed $250 per day. Subcontracting organizations may also be used, in which case the written agreement between the prospective grantee and subcontractor should be included in the proposal. Subcontracts should be itemized in the budget.

(6) Room rental. Room rental should not exceed $250 per day. Applicants should cost-share higher room rental costs for rates above $250 per day.

(7) Materials development and publication. Proposals may contain costs to purchase, develop, translate, and/or distribute findings and recommendations that are a result of the four working sessions. Grantee organizations should expect to submit a copy of all program materials to the Bureau.

(8) Return travel allowance. A return travel allowance of $70 for each foreign participant may be included in the budget. The allowance may be used for incidental expenses incurred during international travel.

(9) Health Insurance. Foreign participants will be covered under the terms of a Bureau-sponsored health insurance policy. The premium is paid by the Bureau directly to the insurance company. Applicants are permitted to include costs for travel insurance for U.S. participants in the budget.

(10) Wire transfer fees. When necessary, applicants may include costs to transfer funds to partner organizations overseas.

(11) Administrative Costs. Costs necessary for the effective administration of the program may include salaries for grantee organization employees, benefits, and other direct and indirect costs per detailed instructions in the Application Package. Please refer to the Solicitation Package for complete budget guidelines and formatting instructions.

Announcement Title and Number: All correspondence with the Bureau concerning this RFGP should reference the above title and number ECA/PE/C/EUR-03-37.

FOR FURTHER INFORMATION CONTACT: Interested organizations should contact the Office of Citizen Exchanges, ECA/PE/C/EUR, Room 224, U.S. Department of State, 301 4th Street, SW., Washington, DC 20547, telephone 202-619-5327, fax number 202-619-4350, e-mail hscott@pd.state.gov to request a Solicitation Package. Please specify Bureau Program Officer Henry Scott on all other inquiries and correspondence.

Please read the complete Federal Register announcement before sending inquiries or submitting proposals. Once the RFGP deadline has passed, Bureau staff may not discuss this competition with applicants until the proposal review process has been completed.

To Download a Solicitation Package via Internet:

The entire Solicitation Package may be downloaded from the Bureau's Web site at http://exchanges.state.gov/education/RFGPs. Please read all information before downloading.

Deadline for Proposals

All proposal copies must be received at the Bureau of Educational and Cultural Affairs by 5 p.m., Washington, DC time, on April 30, 2003. Faxed documents will not be accepted at any time. Documents postmarked on the due date but received on a later date will not be accepted. Each applicant must ensure that the proposals are received by the above deadline.

Applicants must follow all instructions in the Solicitation Package. The original and eight (8) copies of the application should be sent to: U.S. Department of State, SA-44, Bureau of Educational and Cultural Affairs, Ref.: ECA/PE/C/EUR-03-37, Program Management, ECA/EX/PM, Room 534, 301 4th Street, SW., Washington, DC 20547.

Applicants must also submit the “Executive Summary” and “Proposal Narrative” sections of the proposal on a 3.5” diskette, formatted for DOS. These documents must be provided in ASCII text (DOS) format with a maximum line length of 65 characters. The Bureau will transmit these files electronically to the Public Affairs section at the U.S. Embassy in Ukraine for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq. The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If the applicant has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, Fax: (202) 401-9809.

Review Process

The Bureau will acknowledge receipt of all proposals and will review them for technical eligibility. Proposals will be deemed ineligible if they do not fully adhere to the guidelines stated herein and in the Solicitation Package. All eligible proposals will be reviewed by the program office at the Bureau, as well as PAS/Kiev. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grants resides with the Bureau's Grants Officer.

Review Criteria

Technically eligible applications will be competitively reviewed according to the criteria stated below. These criteria are not rank ordered and all carry equal weight in the proposal evaluation:

1. Program planning: Detailed agenda and relevant work plan should demonstrate substantive undertakings and logistical capacity. Agenda and plan should adhere to the program overview and guidelines described above.

2. Ability to achieve program objectives: Objectives should be reasonable, feasible, and flexible. Proposals should clearly demonstrate how the institution will meet the program's objectives and plan.

3. Multiplier effect/impact: Proposed programs should strengthen long-term mutual understanding, including maximum sharing of information and establishment of long-term institutional and individual linkages.

4. Support of Diversity: Proposals should demonstrate substantive support of the Bureau's policy on diversity. Achievable and relevant features should be cited in both program administration and program content.

5. Institutional Capacity: Proposed personnel and institutional resources should be adequate and appropriate to achieve the program or project's goals. Applicants must demonstrate significant expertise with Ukrainian contemporary issues, experience working with high-level Ukrainian and U.S. policymakers and experts, and experience and ability to conduct all required logistics in Ukraine.

6. Follow-on Activities: Proposals should show what mechanisms will be put in place to ensure that communication and dialog among participants continue after the grant has expired.

7. Project Evaluation: Proposals should include a plan to evaluate the activity's success, both as the activities unfold and at the end of the program. A draft survey questionnaire or other technique, plus a description of a methodology used to link outcomes to the original project objectives, are recommended.

8. Cost-effectiveness/Cost-sharing: The overhead and administrative components of the proposal, including salaries and honoraria, should be kept as low as possible. All other items should be necessary and appropriate. Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through FREEDOM Support Act legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: February 26, 2003.
C. Miller Crouch,
Principal Deputy Assistant Secretary, Bureau of Educational and Cultural Affairs, Department of State.

[FR Doc. 03-5009 Filed 3-5-03; 8:45 am]

BILLING CODE 4710-05-P